DEPARTMENT OF THE INTERIOR

Bureau of Land Management

[BLM_AZ_FRN_MO4500178910]

Notice of Realty Action: Recreation and Public Purposes Act Classification; Arizona

AGENCY: Bureau of Land Management, Interior.

ACTION: Notice of realty action.

SUMMARY: The Bureau of Land Management (BLM), Hassayampa Field Office, examined two parcels consisting of approximately 640 acres of public land and determined that the parcels are suitable for classification for lease and/or conveyance under the provisions of the Recreation and Public Purpose Act, as amended (R&PP). The R&PP allows local governments to lease, develop, and subsequently acquire public lands for recreational uses when the proposed use complies with local government and BLM land use planning. The City of Buckeye (Applicant) filed an application to develop the land as a local park that will help meet future expanding recreational needs in Buckeye, Arizona. The BLM is seeking public comments as to the suitability of the lands for lease and/or conveyance under the R&PP Act.

DATES: Interested parties may submit written comments regarding this proposed classification for lease and/or conveyance on or before August 23, 2024.

ADDRESSES: Mail written comments to the BLM Hassayampa Field Office, Ryan Randell, Land Law Examiner, 2020 East Bell Road, Phoenix, Arizona 85022.

FOR FURTHER INFORMATION CONTACT: Ryan Randell, Land Law Examiner, at the above address, by telephone at 602-867-5400, or by email at rrandell@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The R&PP project is consistent with the BLM Bradshaw-Harquahala Resource Management Plan dated April 22, 2010. The two parcels are 320 acres each, which would add a total of 640 acres to the adjacent 8,675-acre Skyline Regional Park. The subject parcels are located within the White Tank Mountains, within the city of Buckeye, north of Interstate 10, and are legally described as:

Gila and Salt River Meridian, Arizona

T. 2 N. R. 3 W.,

Sec. 14, E½;

Sec. 26, N½.

The areas described aggregate 640 acres, more or less, according to the official plat of the survey of the said land on file with the BLM.

Plans for the R&PP project consist of trails connecting to the existing and planned Skyline Regional Park trail network with trailhead parking, rest nodes with restrooms, shade structures, seating and site furnishings, signage, and access roads from the future Verrado road network. The trails are anticipated to be single-track, shared-use, non-motorized trails for hiking, mountain biking, and equestrian use. Long term future improvements could include a bike skills area that would utilize the varied terrain of the White Tank Mountains foothills to offer a variety of bike recreation opportunities, such as pump track style courses, BMX challenge courses, flow trails, mountain bike trails ranging in difficulty, and training areas for beginners.

The conveyance document, if and when issued, would be subject to the provisions of the R&PP Act, to all applicable regulations of the Secretary of Interior, and the following terms and conditions:

1. A right-of-way thereon for ditches and canals constructed by the authority of the United States pursuant to the Act of August 30, 1890 (43 U.S.C. 945).

2. All mineral deposits in the land, and to it, or persons authorized by it, the right to prospect for, mine, and remove such deposits from the same under applicable law and regulations to be established by the Secretary of the Interior.

3. Subject to valid existing rights.

4. An appropriate indemnification clause protecting the United States from claims arising out of the use, occupancy, or occupations on the lands.

Upon publication of this notice in the Federal Register, the land described above will be segregated from all other forms of appropriation under the public land laws, including the general mining laws, except for lease/conveyance under the R&PP Act, and leasing under the mineral and geothermal leasing laws.

Interested parties may submit comments to this Notice of Realty Action (NORA) involving the classification of lands as being suitable for further development of Skyline Regional Park, whether the land is physically suited for the proposal, whether the use will maximize the future use or uses of the land, whether the use is consistent with local planning and zoning, or if the use is consistent with State and Federal programs. Comments to this NORA must be submitted in writing and sent to the BLM Hassayampa Field Office on or before the date listed under the DATES section above.

All comments received from publication of this notice will then be considered for analysis in the Environmental Assessment (EA) for this project. Once the EA is completed, it will be made available on the BLM National NEPA Register (eplanning website) at https://eplanning.blm.gov. Interested parties on file with the BLM, including anyone that submitted a comment to the NORA, will be sent a notice that the EA is available for review. Beginning the day that the EA is published on the eplanning website, the public will be given an additional 30 days to submit comments.

Comments during the 30-day EA comment period may include concerns over the specific use proposed in the application, the Plan of Development (POD), and whether the BLM followed proper administrative procedures. All comments during the NEPA comment period must be submitted directly onto the eplanning website. Comments received during the EA comment period will be considered in reaching a decision regarding leasing and/or conveying the lands under the R&PP Act. Other pertinent information related to the project such as the POD and maps will also be made available for review on the eplanning website.

Any adverse comments received will be considered protests and will be reviewed by the BLM Arizona State Director, who may sustain, vacate, or modify this realty action. In the absence of any adverse comments to the NORA, the classification of lands will become effective 60 days from the date of publication of this notice in the Federal Register. In the absence of any adverse comments to the EA, a decision will be made in response to the R&PP application and will be posted on the eplanning website.

Before including your address, phone number, email, address, or other personal identifying information in any of your comments, you should be aware that your entire comment, including your personal identifying information, may be made publicly available at any time. While you can ask us in your comment to withhold your personal identifying information from public review, we cannot guarantee that we will be able to do so.

Authority: 43 CFR 2741.5.

James Holden,
Acting Field Manager, BLM Hassayampa Field Office.

[FR Doc. 2024-14943 Filed 7-8-24; 8:45 am]

BILLING CODE 4331-12-P